DEPARTMENT OF HEALTH AND HUMAN SERVICES

Health Resources and Services Administration

Advisory Committee on Interdisciplinary, Community-Based Linkages; Notice of Meeting

In accordance with section 10(a)(2) of the Federal Advisory Committee Act (Pub. L. 92-463), notice is hereby given of the following meeting:

Name: Advisory Committee on Interdisciplinary, Community-Based Linkages.

Dates and Times: May 1, 2005, 5 p.m.-9 p.m.; May 2, 2005, 8:30 a.m.-5 p.m.; May 3, 2005, 8:30 a.m.-2 p.m.

Place: The DoubleTree Hotel, 1750 Rockville Pike, Rockville, MD 20852.

Status: The meeting will be open to the public.

Agenda: Agenda items will include, but not be limited to: Welcome; plenary session on Allied Health issues as they relate to the grant programs under the purview of the Committee with presentations by constituent groups, field experts, committee members, and speakers representing the Health Resources and Services Administration, Bureau of Health Professions, Division of State, Community and Public Health programs that incorporate allied health disciplines. The following topics will be addressed at the meeting: What are effective allied health interdisciplinary training programs, and how are they achieved; and are allied health interdisciplinary training programs meeting the needs of employers, and what do those employers seek in allied health professionals.

Proposed agenda items are subject to change as priorities dictate.

Public Comments: Public comment will be permitted at the end of the Committee meeting on May 2, 2005, and before lunch on May 3, 2005. Oral presentations will be limited to 5 minutes per public speaker. Persons interested in providing an oral presentation should submit a written request, with a copy of their presentation to: Ann Bell, Public Health Fellow, Division of State, Community and Public Health, Bureau of Health Professions, Health Resources and Services Administration, Room 8A-09, 5600 Fishers Lane, Rockville, MD 20857, Telephone (301) 443-0582.

Requests should contain the name, address, telephone number, and any business or professional affiliation of the person desiring to make an oral presentation. Groups having similar interests are requested to combine their comments and present them through a single representative. The Division of State, Community and Public Health will notify each presenter by mail or telephone of their assigned presentation time.

Persons who do not file a request in advance for a presentation, but wish to make an oral statement may register to do so at the DoubleTree Hotel, Rockville, MD, on May 2, 2005. These persons will be allocated time as the Committee meeting agenda permits.

For Further Information Contact: Anyone requiring information regarding the Committee should contact Ann Bell, Division of State, Community and Public Health, Bureau of Health Professions, Health Resources and Services Administration, Room 8A-09, 5600 Fishers Lane, Rockville, MD 20857, Telephone (301) 443-0582.

Dated: March 30, 2005.
Tina M. Cheatham,
Director, Division of Policy Review and Coordination.

[FR Doc. 05-6704 Filed 4-4-05; 8:45 am]

BILLING CODE 4165-15-P